ENVIRONMENTAL PROTECTION AGENCY

[FRL-7404-9]

Koppers Charleston Superfund Site; Notice To Rescind Federal Register Notice Dated October 1, 2002

AGENCY: Environmental Protection Agency.

ACTION: Notice to rescind previous Federal Register notice.

SUMMARY: On October 1, 2002 at 67 FR 61624, the Environmental Protection Agency (EPA) published a Notice of Proposed Settlement for response costs incurred by EPA at the Koppers Charleston Superfund Site located in Charleston, Charleston County, South Carolina. That notice was published prematurely. The purpose of this notice is to rescind EPA's October 1, 2002 Federal Register Notice regarding the settlement of response costs at the Site. The Notice of Proposed Settlement for the Site may be republished in the future following final approval of the settlement.

FOR FURTHER INFORMATION CONTACT: Paula Batchelor at 404-562-8887.

Dated: October 23, 2002.
Anita L. Davis,
Acting Chief, CERCLA Program Services Branch, Waste Management Division.

[FR Doc. 02-28214 Filed 11-5-02; 8:45 am]

BILLING CODE 6560-50-P